DEPARTMENT OF DEFENSE

Office of the Secretary

TRICARE; Implementation Date for Uniform Skilled Nursing Facility (SNF) Benefit and Adoption of Medicare Payment Method for Skilled Nursing Facilities

AGENCY: Office of the Secretary, DoD.

ACTION: Notice.

SUMMARY: This notice is to announce that TRICARE will implement the Skilled Nursing Facility (SNF) benefit provisions and SNF Prospective Payment System (PPS) effective for SNF admissions on or after August 1, 2003.

DATES: August 1, 2003.

FOR FURTHER INFORMATION CONTACT: Tariq Shahid, Medical Benefits and Reimbursement Systems, TRICARE Management Activity, 16401 East Centretech Parkway, Aurora, Colorado 80011-9066, telephone (303) 676-3801.

SUPPLEMENTARY INFORMATION: The Department published an interim final rule (67 FR 40597) on June 13, 2002. In part, this rule aligned the TRICARE SNF benefit more closely with the Medicare's SNF benefit and provided for TRICARE's adoption of the Medicare SNF PPS. The interim final rule provided that the rule is effective August 12, 2003, as soon thereafter as the Director, TRICARE Management Activity can effectively and efficiently implement through contract change.

Dated: June 25, 2003.
Patricia L. Toppings,
Alternate OSD Federal Register Liaison Officer, Department of Defense.

[FR Doc. 03-16980 Filed 7-3-03; 8:45 am]

BILLING CODE 5001-08-M